DEPARTMENT OF ENERGY

Federal Energy Regulatory Commission

Combined Notice of Filings #1

Take notice that the Commission received the following electric rate filings:

Docket Numbers: ER13-1485-009; ER10-1992-018; ER10-3230-009; ER10-3232-008; ER10-3237-009; ER10-3239-009; ER10-3240-009; ER10-3251-011; ER10-3253-009; ER13-1586-012; ER14-1777-008; ER14-2382-011; ER14-2871-011; ER15-110-010; ER15-2722-005; ER15-463-010; ER15-621-010; ER15-622-010; ER16-1129-004; ER16-1130-004; ER16-1131-004; ER16-1132-004; ER16-182-006; ER16-72-006; ER16-902-002; ER17-1574-001; ER17-1785-001; ER17-47-003; ER17-48-003; ER18-47-001

Applicants: Wheelabrator Baltimore, L.P., Wheelabrator Bridgeport, L.P., Wheelabrator Falls Inc., Wheelabrator Frackville Energy Company Inc., Wheelabrator North Andover Inc., Wheelabrator Portsmouth Inc., Wheelabrator Saugus Inc., Wheelabrator Shasta Energy Company Inc., Wheelabrator Westchester, L.P., Cameron Ridge, LLC, Cameron Ridge II, LLC, Coachella Wind, LLC, DifWind Farms Limited I, DifWind Farms Limited II, DifWind Farms Limited V, DifWind Farms LTD VI, EUI Affiliate LLC, Oak Creek Wind Power, LLC, ON Wind Energy LLC, Pacific Crest Power, LLC, Ridgetop Energy, LLC, San Gorgonio Westwinds II, LLC, San Gorgonio Westwinds II—Windustries, LLC, Terra-Gen Energy Services, LLC, Terra-Gen Mojave Windfarms, LLC, TGP Energy Management, LLC, Victory Garden Phase IV, LLC, Voyager Wind I, LLC, Voyager Wind II, LLC, VPI Enterprises, LLC.

Description: Notice of Change in Status of the ECP MBR Sellers.

Filed Date: 4/9/18.

Accession Number: 20180409-5338.

Comments Due: 5 p.m. ET 4/30/18.

Docket Numbers: ER14-1619-004.

Applicants: Cottonwood Energy Company LP.

Description: Compliance filing: Informational Filing Regarding Upstream Change in Control to be effective N/A.

Filed Date: 4/11/18.

Accession Number: 20180411-5076.

Comments Due: 5 p.m. ET 5/2/18.

Docket Numbers: ER14-2080-001.

Applicants: Louisiana Generating LLC.

Description: Compliance filing: Informational Filings Regarding Upstream Change in Control to be effective N/A.

Filed Date: 4/11/18.

Accession Number: 20180411-5075.

Comments Due: 5 p.m. ET 5/2/18.

Docket Numbers: ER15-502-002.

Applicants: Bayou Cove Peaking Power, LLC.

Description: Compliance filing: Informational Filings Regarding Upstream Change in Control to be effective N/A.

Filed Date: 4/11/18.

Accession Number: 20180411-5073.

Comments Due: 5 p.m. ET 5/2/18.

Docket Numbers: ER15-1136-002.

Applicants: Big Cajun I Peaking Power LLC.

Description: Compliance filing: Informational Filings Regarding Upstream Change in Control to be effective N/A.

Filed Date: 4/11/18.

Accession Number: 20180411-5074.

Comments Due: 5 p.m. ET 5/2/18.

Docket Numbers: ER18-1337-000.

Applicants: Interstate Power and Light Company.

Description: § 205(d) Rate Filing: IPL & MGE (Saratoga)—LBA Agreement to be effective 6/11/2018.

Filed Date: 4/10/18.

Accession Number: 20180410-5232.

Comments Due: 5 p.m. ET 5/1/18.

Docket Numbers: ER18-1338-000.

Applicants: Interstate Power and Light Company.

Description: § 205(d) Rate Filing: IPL & Turtle Creek—LBA Agreement to be effective 6/11/2018.

Filed Date: 4/11/18.

Accession Number: 20180411-5000.

Comments Due: 5 p.m. ET 5/2/18.

Docket Numbers: ER18-1339-000.

Applicants: California Independent System Operator Corporation.

Description: Compliance filing: 2018-04-10 Petition for Limited Tariff Waiver & Expedited Consideration Request to be effective N/A.

Filed Date: 4/11/18.

Accession Number: 20180411-5002.

Comments Due: 5 p.m. ET 5/2/18.

Docket Numbers: ER18-1340-000.

Applicants: South Carolina Electric & Gas Company.

Description: Contribution in Aid of Construction Agreement of South Carolina Electric & Gas Company.

Filed Date: 4/9/18.

Accession Number: 20180409-5339.

Comments Due: 5 p.m. ET 4/30/18.

Docket Numbers: ER18-1341-000.

Applicants: Virginia Electric and Power Company, PJM Interconnection, L.L.C.

Description: § 205(d) Rate Filing: VEPCO submits revisions to OATT, Attachment H-16C re: OPEB expense for 2017 to be effective 6/15/2018.

Filed Date: 4/11/18.

Accession Number: 20180411-5087.

Comments Due: 5 p.m. ET 5/2/18.

Docket Numbers: ER18-1343-000.

Applicants: Carolina Solar Power, LLC.

Description: Baseline eTariff Filing: Application and MBR Tariff to be effective 6/11/2018.

Filed Date: 4/11/18.

Accession Number: 20180411-5129.

Comments Due: 5 p.m. ET 5/2/18.

Take notice that the Commission received the following PURPA 210(m)(3) filings:

Docket Numbers: QM18-11-000.

Applicants: Cloverland Electric Cooperative.

Description: Application of Cloverland Electric Cooperative To Terminate Mandatory PURPA Purchase Obligation.

Filed Date: 4/10/18.

Accession Number: 20180410-5245.

Comments Due: 5 p.m. ET 5/8/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 11, 2018.
Nathaniel J. Davis, Sr.,
Deputy Secretary.

[FR Doc. 2018-07997 Filed 4-16-18; 8:45 am]

BILLING CODE 6717-01-P